COMMODITY FUTURES TRADING COMMISSION

17 CFR Parts 23, 43, 45, and 49

RIN 3038-AE32

Certain Swap Data Repository and Data Reporting Requirements; Extension of Comment Period

AGENCY: Commodity Futures Trading Commission.

ACTION: Proposed rule; extension of comment period.

SUMMARY: On May 13, 2019, the Commodity Futures Trading Commission (Commission) published in the Federal Register a notice of proposed rulemaking (NPRM) titled Certain Swap Data Repository and Data Reporting Requirements. The comment period for the NPRM closes on July 29, 2019. The Commission is extending the comment period for this NPRM by an additional 90 days.

DATES: The comment period for the NPRM titled Certain Swap Data Repository and Data Reporting Requirements, published on May 13, 2019 (84 FR 21044), is extended through October 28, 2019.

ADDRESSES: You may submit comments, identified by “Certain Swap Data Repository and Data Reporting Requirements” and RIN number 3038-AE32, by any of the following methods:

• CFTC Comments Portal: https://comments.cftc.gov. Select the “Submit Comments” link for this rulemaking and follow the instructions on the Public Comment Form.

• Mail: Send to Christopher Kirkpatrick, Secretary of the Commission, Commodity Futures Trading Commission, Three Lafayette Centre, 1155 21st Street NW, Washington, DC 20581.

• Hand Delivery/Courier: Follow the same instructions as for Mail, above.

Please submit your comments using only one of these methods. To avoid possible delays with mail or in-person deliveries, submissions through the CFTC Comments Portal are encouraged.

All comments must be submitted in English, or if not, accompanied by an English translation. Comments will be posted as received to https://comments.cftc.gov. You should submit only information that you wish to make available publicly. If you wish the Commission to consider information that you believe is exempt from disclosure under the Freedom of Information Act (FOIA), a petition for confidential treatment of the exempt information may be submitted according to the procedures established in § 145.9 of the Commission's regulations.¹

¹ 17 CFR 145.9.

The Commission reserves the right, but shall have no obligation, to review, pre-screen, filter, redact, refuse or remove any or all of your submission from https://comments.cftc.gov that it may deem to be inappropriate for publication, such as obscene language. All submissions that have been redacted or removed that contain comments on the merits of the rulemaking will be retained in the public comment file and will be considered as required under the Administrative Procedure Act and other applicable laws, and may be accessible under the FOIA.

FOR FURTHER INFORMATION CONTACT: Benjamin DeMaria, Special Counsel, 202-418-5988, bdemaria@cftc.gov or Meghan Tente, Acting Associate Director, 202-418-5785, mtente@cftc.gov; Division of Market Oversight, Data and Reporting Branch, Commodity Futures Trading Commission, Three Lafayette Centre, 1155 21st Street NW, Washington, DC 20581.

SUPPLEMENTARY INFORMATION: On May 13, 2019, the Commission published in the Federal Register an NPRM proposing amendments to certain regulations applicable to swap data repositories (SDRs), reporting counterparties, and other market participants.² The proposed amendments would, among other things, update requirements for SDRs to verify swap data with reporting counterparties, update requirements to correct swap data errors and omissions, and update and clarify certain SDR operational and governance requirements. The comment period for the NPRM closes on July 29, 2019. As requested by market participants, the Commission is extending the comment period for this NPRM by an additional 90 days.³ This extension of the comment period will allow interested persons additional time to analyze the proposal and prepare their comments.

² Certain Swap Data Repository and Data Reporting Requirements, 84 FR 21044 (May 13, 2019).

³ See Letter from International Swaps and Derivatives Association and Securities Industry and Financial Markets Association (June 18, 2019), available at https://comments.cftc.gov/PublicComments/ViewComment.aspx?id=62139&SearchText=.

Issued in Washington, DC, on July 22, 2019, by the Commission.
Robert Sidman,
Deputy Secretary of the Commission.

Note: The following appendix will not appear in the Code of Federal Regulations.

Appendix to Certain Swap Data Repository and Data Reporting Requirements—Commission Voting Summary

On this matter, Chairman Tarbert and Commissioners Quintenz, Behnam, Stump, and Berkovitz voted in the affirmative. No Commissioner voted in the negative.

[FR Doc. 2019-15810 Filed 7-24-19; 8:45 am]

BILLING CODE 6351-01-P